DEPARTMENT OF THE INTERIOR

National Park Service

[NPS-WASO-NRNHL-DTS#-26466; PPWOCRADI0, PCU00RP14.R50000]

National Register of Historic Places; Notification of Pending Nominations and Related Actions

AGENCY: National Park Service, Interior.

ACTION: Notice.

SUMMARY: The National Park Service is soliciting comments on the significance of properties nominated before September 8, 2018, for listing or related actions in the National Register of Historic Places.

DATES: Comments should be submitted by October 16, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before September 8, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ARIZONA

Pima County

Dunbar, Paul Laurence, School (Spring, John, MRA), 300 W 2nd St., Tucson, MP100003013

Johnson, Donald S. and Elizabeth E., House (Single Family Residential Architecture of Josias Joesler and John and Helen Murphey MPS), 5165 N Camino St., Tucson, MP100003014

ARKANSAS

Pulaski County

Garland Elementary School, 3615 W 25th St., Little Rock, SG100003015

Washington County

Meadow Spring Historic District, Roughly bounded by NW, School, Locust & Church Aves. between W Dickson St. & W Mountain, Fayetteville, SG100003016

CALIFORNIA

Sacramento County

McKinley Park, Corner of H St. & Alhambra Blvd., Sacramento, SG100003036

FLORIDA

Dade County

Bacardi Complex, 2100 Biscayne Blvd., Miami, SG100003017

Coconut Grove Playhouse, 3500 Main Hwy., Miami, SG100003018

Escambia County

Yonge, P.K., House, 1924 E Jackson St., Pensacola, SG100003019

Flagler County

Holden House, 204 E Moody Blvd., Bunnell, SG100003020

Highlands County

Highlands Hammock State Park and Florida Botanical Gardens and Arboretum (Florida's New Deal Resources MPS), 5931 Hammock Rd., Sebring, MP100003021

Hillsborough County

Costa, Dr. Frank J., House, 16116 Lake Magdalene Dr., Tampa vicinity, SG100003022

First Federal Savings and Loan Association of Tampa, 220 East Madison St., Tampa, SG100003023

GEORGIA

Fulton County

Building at 760-768 Confederate Avenue, 760 Confederate Avenue SE, Atlanta, SG100003037

LOUISIANA

Jefferson Parish

Coca-Cola Bottling Facility—Gretna Plant, 1000 Burmaster St., Gretna, SG100003024

Lafayette Parish

Lafayette Coca-Cola Bottling Plant, 1506 Cameron St., Lafayette, SG100003025

Lafourche Parish

Bayou Boeuf Settlement, 4056 LA 307, Kraemer, SG100003026

Orleans Parish

One Shell Square, 701 Poydras St., New Orleans, SG100003027

St. Tammany Parish

Williams Cemetery, 28183 Main St., Lacombe, SG100003028

NEW MEXICO

Bernalillo County

St. John's Cathedral (Buildings designed by John Gaw Meem MPS), 318 Silver Ave., Albuquerque, MP100003029

Rio Arriba County

Whitaker Dinosaur Quarry, 1708 US 84, Abiquiu vicinity, SG100003030

Santa Fe County

Pond—Kelly House, 535 E Palace Ave., Santa Fe, SG100003031

TEXAS

Brazoria County

Smith, Henry, Statue (Monuments and Buildings of the Texas Centennial MPS), Intersection of N Brooks & W Smith Sts., Brazoria, MP100003040

UTAH

Salt Lake County

Muir, James A. and Janet, House (Sandy City MPS), 2940 E Mount Jordan Rd., Sandy, MP100003042

Nielsen—Sanderson House (Draper, Utah MPS), 12758 S Fort St., Draper, MP100003043

Parrish, Lowell and Emily, House, 701 N I St., Salt Lake City, SG100003044

Young—Cottrell House (Draper, Utah MPS), 12390 S 800 East, Draper, MP100003045

WISCONSIN

Dane County

Klueter and Company Wholesale Grocery Warehouse, 901 E Washington Ave., Madison, SG100003034

Jefferson County

Schweiger Industries Plant III, 138 W Candise St., Jefferson, SG100003046

Milwaukee County

Coakley Brothers Warehouse, 3742 W Wisconsin Ave., Milwaukee, SG100003035

Nominations submitted by Federal Preservation Officers: The State Historic Preservation Officer reviewed the following nominations and responded to the Federal Preservation Officer within 45 days of receipt of the nominations and supports listing the properties in the National Register of Historic Places.

MONTANA

Phillips County

Lookout Cave, Address Restricted, Zortman vicinity, SG100003039

OREGON

Lake County

Snell, Governor Earl W., Aircraft Crash Site, T40S, R16E, sec25, Fremont-Winema NF, Lakeview vicinity, SG100003032

Linn County

Santiam Pass Ski Lodge, 64405 US 20, Willamette NF, Sisters vicinity, SG100003033

Authority: Section 60.13 of 36 CFR part 60.

Dated: September 11, 2018.
Julie H. Ernstein,
Acting Chief, National Register of Historic Places/National Historic Landmarks Program and Deputy Keeper of the National Register of Historic Places.

[FR Doc. 2018-21272 Filed 9-28-18; 8:45 am]

BILLING CODE 4312-52-P